DEPARTMENT OF DEFENSE

Defense Acquisition Regulations System

48 CFR Parts 212, 227, and 252

[Docket DARS-2020-0033]

RIN 0750-AK84

Defense Federal Acquisition Regulation Supplement: Small Business Innovation Research Program Data Rights (DFARS Case 2019-D043); Extension of Comment Period; Public Meeting

AGENCY: Defense Acquisition Regulations System, Department of Defense (DoD).

ACTION: Proposed rule; extension of comment period; public meeting.

SUMMARY: DoD published a proposed rule on December 19, 2022, seeking public input on a proposed revision to the Defense Federal Acquisition Regulation Supplement (DFARS) to implement the intellectual property (e.g., data rights) portions of the Small Business Administration's Small Business Innovation Research Program and Small Business Technology Transfer Program Policy Directive. The deadline for submitting comments is being extended to provide additional time for interested parties to provide inputs. In addition, DoD is hosting a second public meeting to further obtain views of experts and interested parties in Government and the private sector regarding this proposed revision of the DFARS.

DATES:

Comment date: Comments on the proposed rule should be submitted in writing to the address shown below on or before March 20, 2023, to be considered in the formation of a final rule.

Public meeting date: A virtual public meeting will be held on March 2, 2023, from 1 p.m. to 5 p.m., Eastern time. The public meeting will end at the stated time, or when the discussion ends, whichever comes first.

Registration date: Registration to attend the public meeting must be received no later than close of business on February 23, 2023. Information on how to register for the public meeting may be found under the SUPPLEMENTARY INFORMATION section of this notice.

ADDRESSES:

Public Meeting: A virtual public meeting will be held using Zoom video conferencing software.

Submission of Comments: Submit comments identified by DFARS Case 2019-D043, using any of the following methods:

○ Federal eRulemaking Portal: https://www.regulations.gov. Search for “DFARS Case 2019-D043.” Select “Comment” and follow the instructions provided to submit a comment. Please include “DFARS Case 2019-D043” on any attached documents.

○ Email: osd.dfars@mail.mil. Include DFARS Case 2019-D043 in the subject line of the message.

Comments received generally will be posted without change to https://www.regulations.gov, including any personal information provided. To confirm receipt of your comment(s), please check https://www.regulations.gov, approximately two to three days after submission to verify posting.

FOR FURTHER INFORMATION CONTACT: Mr. David E. Johnson, telephone 202-913-5764.

SUPPLEMENTARY INFORMATION: DoD is interested in continuing a dialogue with experts and interested parties in Government and the private sector regarding amending the DFARS to implement the Small Business Administration's Small Business Innovation Research/Small Business Technology Transfer (SBIR/STTR) Program Policy Directive. DoD held a public meeting on February 2, 2023, regarding this proposed rule.

Registration: Individuals wishing to participate in the virtual meeting must register by February 23, 2023, to facilitate entry to the meeting. Interested parties may register for the meeting by sending the following information via email to osd.dfars@mail.mil and including “Public Meeting, DFARS Case 2019-D043” in the subject line of the message:

• Full name.

• Valid email address, which will be used for admittance to the meeting.

• Valid telephone number, which will serve as a secondary connection method. Registrants must provide the telephone number they plan on using to connect to the virtual meeting.

• Company or organization name.

• Whether the individual desires to make a presentation.

Preregistered individuals will receive instructions for connecting using the Zoom video conferencing software not more than one week before the meeting is scheduled to commence.

Presentations: Presentations will be limited to 5 minutes per company or organization. This limit may be subject to adjustment, depending on the number of entities requesting to present, to ensure adequate time for discussion. If you wish to make a presentation, please submit an electronic copy of your presentation via email to osd.dfars@mail.mil no later than the registration date for the specific meeting. Each presentation should be in PowerPoint to facilitate projection during the public meeting and should include the presenter's name, title, organization affiliation, telephone number, and email address on the cover page.

Correspondence, Comments, and Presentations: Please cite “Public Meeting, DFARS Case 2019-D043” in all correspondence related to the public meeting. There will be no transcription at the meeting. The submitted presentations will be the only record of the public meeting and will be posted to the following website at the conclusion of the public meeting: https://www.acq.osd.mil/dpap/dars/technical_data_rights.html.

The comment period for the proposed rule is extended through March 20, 2023, to provide additional time for interested parties to provide inputs.

List of Subjects in 48 CFR Parts 212, 227, and 252

Government procurement.

Jennifer D. Johnson,
Editor/Publisher, Defense Acquisition Regulations System.

[FR Doc. 2023-03113 Filed 2-13-23; 8:45 am]

BILLING CODE 5001-06-P